ENVIRONMENTAL PROTECTION AGENCY

[OECA-2003-0001; FRL-7458-2]

Agency Information Collection Activities; Submission for EPA ICR No. 1847.03, OMB No. 2060-0390 to OMB for Review and Approval; Comment Request

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Federal Plan Recordkeeping and Reporting Requirements for Large Municipal Waste Combustors Constructed on or Before September 20, 1994 (40 CFR part 62, subpart FFF). This ICR describes the nature of the information collection and its estimated burden and cost burden and cost.

DATES: Additional comments may be submitted on or before April 7, 2003.

ADDRESSES: Follow the detailed instructions in the SUPPLEMENTARY INFORMATION.

FOR FURTHER INFORMATION CONTACT: Jonathan Binder, Compliance Assistance and Sector Programs Division, Office of Compliance, Mail Code 2224A, 202-564-2516 Environmental Protection Agency, 1200 Pennsylvania Ave., NW., Washington, DC 20460; fax number: 202-564-0009; e-mail address: binder.jonathan@epa.gov.

SUPPLEMENTARY INFORMATION: EPA has submitted the following ICR to OMB for review and approval according to the procedures prescribed in 5 CFR 1320.12. On June 20, 2002 (67 FR 41981), EPA sought comments on this ICR pursuant to 5 CFR 1320.8(d). EPA received no comments.

EPA has established a public docket for this ICR under Docket ID Number OECA-2003-0001, which is available for public viewing at the Enforcement and Compliance Docket and Information Center (ECDIC) in the EPA Docket Center (EPA/DC), EPA West, Room B102, 1301 Constitution Ave., NW., Washington, DC. The EPA Docket Center Public Reading Room is open from 8:30 a.m. to 4:30 p.m., Monday through Friday, excluding federal holidays. The telephone number for the Reading Room is (202) 566-1744, and the telephone number for the Enforcement and Compliance Docket and Information Center (ECDIC) is (202) 566-1514. An electronic version of the public docket is available through EPA Dockets (EDOCKET) at http://www.epa.gov/edocket. Use EDOCKET to submit or view public comments, access the index listing of the contents of the public docket, and to access those documents in the public docket that are available electronically. Once in the system, select “search,” then key in the docket identification number identified above.

Any comments related to this ICR should be submitted to EPA and OMB within 30 days of this notice, and according to the following detailed instructions: (1) Submit your comments to EPA online using EDOCKET (our preferred method), by e-mail to docket.oeca@epa.gov, or by mail to: EPA Docket Center, Environmental Protection Agency, Mailcode: 2201T, 1200 Pennsylvania Ave., NW., Washington, DC 20460, and (2) mail your comments to OMB at: Office of Information and Regulatory Affairs, Office of Management and Budget, Attention: Desk Officer for EPA, 725 17th Street, NW., Washington, DC 20503.

EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

Title: Federal Plan Requirements for Large Municipal Waste Combustors Constructed on or before September 20, 1994 (40 CFR part 62, subpart FFF) (OMB Control No. 2060-0390, EPA ICR No. 1847.03). This is a request to renew an existing approved collection that is scheduled to expire on March 31, 2003. Under the OMB regulations, EPA may continue to conduct or sponsor the collection of information while this submission is pending at OMB.

Abstract: Municipal Solid Waste Combustors (MWC) with a capacity to combust greater than 250 tons per day if construction was commenced on or before September 20, 1994 and that are not located in areas covered by an EPA-approved and currently effective State or Tribal Plan are subject to specific reporting and recordingkeeping requirements. Notification reports are required for one-time-only reports related to initial performance test data and continuous measurements of site-specific operating parameters. Quarterly, semi-annual and annual compliance reports are required related to a variety of site-specific operating parameters, including exceedances of applicable limits. Semi-annual compliance reports are required related to emission rate or operating parameter data that were not obtained when exceedances of applicable limits occurred. Affected entities must retain records for five years that are required under 40 CFR part 62, §§ 62.14109(a), 62.39b(a) and 40 CFR part 60, § 60.59b.

An agency may not conduct or sponsor, and a person is not required to respond to, a collection of information unless it displays a currently valid OMB control number. The OMB control numbers for EPA's regulations are listed in 40 CFR part 9 and 48 CFR chapter 15, and are identified on the form and/or instrument, if applicable.

Burden Statement: The annual public reporting and recordkeeping burden for this collection of information is estimated to average 399 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners and Operators of Large Municipal Waste Combustors.

Estimated Average Number of Respondents: 14.

Frequency of Response: Quarterly, semi-annually, and annually.

Estimated Total Annual Hour Burden: 39,067.

Estimated Total Annual Operations and Maintenance Cost: $402,617.

Changes in the Estimates: There is a decrease of 19,848 hours in the total estimated burden currently identified in the OMB Inventory of Approved ICR Burdens. This decrease is due to a reduction in the number of affected respondents as indicted by a recent source inventory analysis and the expectation that EPA-approved and effective State Plans will cover additional respondents.

Dated: February 23, 2003.
Oscar Morales,
Director, Collection Strategies Division.

[FR Doc. 03-5314 Filed 3-5-03; 8:45 am]

BILLING CODE 6560-50-P